DEPARTMENT OF THE INTERIOR

Bureau of Land Management

[LLWY910000 L16100000 XX0000]

Notice of Public Meeting; Wyoming Resource Advisory Council

AGENCY: Bureau of Land Management, Interior.

ACTION: Notice of Public Meeting.

SUMMARY: In accordance with the Federal Land Policy and Management Act of 1976 and the Federal Advisory Committee Act of 1972, the U.S. Department of the Interior, Bureau of Land Management (BLM) Wyoming Resource Advisory Council (RAC) will meet as indicated below.

DATES: The meeting will be held November 12, 2013 (1 p.m. to 5:15 p.m.), November 13, 2013 (8:00 a.m. to 4:00 p.m.), and November 14, 2013 (8:00 a.m. to noon).

ADDRESSES: The November 12 meeting will be at the Holiday Inn, 204 South 30th Street, Laramie, Wyoming. The November 13 meeting will be at the Hilton Garden Inn, 229 Grand Avenue, Laramie, Wyoming. The November 14 meeting will be at the University of Wyoming BP Collaboration Center, 1020 East Lewis Street, Laramie, Wyoming.

FOR FURTHER INFORMATION CONTACT: Christian Venhuizen, Wyoming State Office, 5353 Yellowstone, Cheyenne, WY 82009; telephone 307-775-6103; email cvenhuizen@blm.gov.

Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This 10-member RAC advises the Secretary of the Interior on a variety of management issues associated with public land management in Wyoming.

Planned agenda topics include discussions on National Environmental Policy Act cooperating agency issues, reclamation and mitigation initiatives by the University of Wyoming Ruckleshaus Institute, the University of Wyoming Reclamation Center, participation in the University of Wyoming's “A Landscape Discussion on Energy Law in Wyoming,” and follow-up to previous meetings.

On Tuesday, November 12, the meeting will begin at 1:00 p.m. at the Holiday Inn Laramie. On Wednesday, November 13, “A Landscape Discussion on Energy Law in Wyoming” begins at 8:00 a.m. Members of the public may attend for free, but must register with the university on their own. On Thursday, November 14 at 8:00 a.m., there will be a tour of the University of Wyoming Energy Innovation Center, 1020 East Lewis Street, Laramie, Wyoming. The public may attend the tour. The meeting will resume at 10:00 a.m.

All RAC meetings are open to the public with time allocated for hearing public comments. On Thursday, November 14, there will be a public comment period beginning at 10:00 a.m. The public may also submit written comments to the RAC. Depending on the number of persons wishing to comment and time available, the time for individual oral comments may be limited. If there are no members of the public interested in speaking, the meeting will move promptly to the next agenda item.

Donald A. Simpson,
State Director.

[FR Doc. 2013-24796 Filed 10-22-13; 8:45 am]

BILLING CODE 4310-22-P